DEPARTMENT OF DEFENSE

Department of the Army

[Docket ID: USA-2019-HQ-0024]

Privacy Act of 1974; System of Records

AGENCY: Department of the Army, DoD.

ACTION: Notice of a modified System of Records.

SUMMARY: The Department of the Army proposes to modify a System of Records Notice (SORN), Army Personnel Systems (APS), A0600-8-104 AHRC. This system of records is comprised of Human Resources (HR) information required to manage a Soldier's career from initial accession through separation, and for life for retirees. Currently APS records are managed by 36 information technology (IT) systems that are linked to seven System of Records Notices (SORNs). In a cost saving effort to eliminate redundant functions and discordant IT systems, the Army is transitioning HR and military pay records for Soldiers to the Integrated Personnel and Pay System-Army (IPPS-A).

DATES: This notice is effective upon publication; however, comments on the Routine Uses will be accepted on or before August 19, 2019. The Routine Uses are effective are effective at the close of the comment period.

ADDRESSES: You may submit comments, identified by docket number and title, by any of the following methods:

• Federal Rulemaking Portal: http://www.regulations.gov.

Follow the instructions for submitting comments.

• Mail: Department of Defense, Office of the Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Tracy Rogers, Department of the Army, U.S. Army Records Management and Declassification Agency, ATTENTION: Army Privacy and Civil Liberties Office, 9301 Chapek Road (Building 1458), Fort Belvoir, VA 22060-5605, or by calling 571-515-0248.

SUPPLEMENTARY INFORMATION: Currently the APS is a virtual network of disparate IT systems and electronic record sets that collectively document personnel actions over the course of a Soldier's military service. As the Army's new enterprise personnel and pay system, IPPS-A will organize, collect, and maintain fragmented HR records in a single IT system. These records are currently maintained in 44 IT systems of which 36 are linked to seven existing HR SORNs (including this notice). The IPPS-A will fully subsume the 36 systems and partially subsume records from eight additional HR and military pay systems. The system provides a single record of service for each Soldier. It will provide Combatant Commanders real-time accurate force strength and readiness, better tracking of personnel into and out of theaters of operations, and will enhance mission planning and support. IPPS-A is designed to fully integrate military personnel and pay capabilities for the Active Army, Army National Guard, and Army Reserves. When fully deployed, Soldiers will have access to view segments of their APS records via IPPS-A and initiate select personnel actions. In addition, IPPS-A will provide new functionality which will enable HR professionals to manage military pay actions for Soldiers. Through the initiative known as the Military Pay (MilPay) Transition, the scope of the APS will expand to include data from the Defense Finance and Accounting Services (DFAS) required to administer military pay actions. IPPS-A's ability to combine personnel and pay functions (e.g., a promotion or call to Active Duty) will address current inefficiencies caused by complex interfaces among outdated and disparate HR systems. As a result, IPPS-A will leave fewer opportunities for error and will become the authoritative and comprehensive source of Army personnel and pay functions. When fully implemented, IPPS-A will provide a secure, web-based integrated personnel and pay system to support the Army's peacetime and wartime readiness requirements for human resource management.

This notice merges six other existing Army HR SORNs: A0600-8 AHRC, Individual Ready, Standby, and Retired Reserve Personnel Information System; A0600-8-23 AHRC, Standard Installation/Division Personnel System; A0600-8a PEO EIS, Integrated Personnel and Pay System—Army Records; A0614-200 AHRC, Classification and Reclassification of Soldiers; A0680-31a AHRC, Officer Personnel Management Information System; A0680-31b AHRC Enlisted Personnel Management Information System. These SORNs were thoroughly reviewed and the information has been properly incorporated in this notice. The six notices identified for consolidation will be rescinded after this notice goes into effect. The DoD is publishing the notice in its entirety to comply with current standards and formatting requirements prescribed in OMB Circular A-108, “Federal Agency Responsibilities for Review, Reporting, and Publication Under the Privacy Act.”

The Department of the Army's notices for system of records subject to the Privacy Act of 1974, as amended, have been published in the Federal Register and are available from the address in the FOR FURTHER INFORMATION CONTACT section or from the Defense Privacy, Civil Liberties, and Transparency Division website at https://dpcld.defense.gov/.

The proposed systems reports, as required by the Privacy Act, as amended, were submitted on May 7, 2019, to the House Committee on Oversight and Government Reform, the Senate Committee on Homeland Security and Governmental Affairs, and the Office of Management and Budget (OMB) pursuant to OMB Circular No. A-108, “Federal Agency Responsibilities for Review, Reporting, and Publication Under the Privacy Act,” December 23, 2016 (December 23, 2016, 81 FR 94424).

Dated: July 12, 2019.
Aaron T. Siegel,
Alternate OSD Federal Register Liaison Officer, Department of Defense.

SYSTEM NAME AND NUMBER:

Army Personnel Systems (APS), A0600-8-104 AHRC.

SECURITY CLASSIFICATION:

Unclassified.

SYSTEM LOCATION:

Primary location: U.S. Army Human Resources Command, 1600 Spearhead Division Avenue, Fort Knox, KY 40122-5500. Secondary locations: U.S. Army Reserve Command G-1, 4710 Knox Street, Fort Bragg, NC 28310-5010.

Army National Guard Readiness Center, 111 South George Mason Drive, Arlington, VA 22204-1382. General Officer Management Office, Office of the Chief of Staff, Army, 200 Pentagon, Washington, DC 20310-0200. Fort Hood Garrison, Directorate of Human Resources, 18010 Battalion Ave, Ft. Hood, TX 76544.

SYSTEM MANAGER(S):

Director of Military Personnel Management, Army G1, U.S. Army Human Resources Command, 1600 Spearhead Division Avenue, AHRC-PDV, Fort Knox, KY 40122-5500. Project Manager, Integrated Personnel and Pay System-Army (IPPS-A), IPPS-A Product Management Office (PMO), U.S. Army Program Executive Office Enterprise Information Systems, James Polk Building, 2521 South Clark Street Arlington, VA 22202.

AUTHORITY FOR MAINTENANCE OF THE SYSTEM:

10 U.S.C. Subtitle A, General Military Law, Part II, Personnel (Chapters 31-41, 43, 45, 47-51, 53, 55-61, 63, 65, 67, 69, 71, 73, 75-77, 79, 80, 87-88) and Part III, Training and education (Chapters 101-107, 109-112); 10 U.S.C. 7013, Secretary of the Army; 10 U.S.C. Subtitle B, Army, Part II, Personnel (Chapters 711, 713, 715, 719, 721, 723, 725, 729, 733, 735, 737, 741, 743, 745, 749) and Part III, Training (Chapters 751, 753, 757); 10 U.S.C. Subtitle E, Reserve Components, Part II, Personnel Generally (Chapters 1201-1225), Part III, Promotion and Retention of Officers on the Reserve Active Status List, (Chapters 1401-1411), and Part IV, Training for Reserve Components and Educational Assistance Programs (Chapters 1601-1611); 18 U.S.C. 3771, Crime victims' rights; 37 U.S.C., Pay and Allowances Of the Uniformed Services; Department of Defense Directive (DoDD) 1030.01, Victim and Witness Assistance; DoDD 1200.7, Screening the Ready Reserve; DoDD 1300.22, Mortuary Affairs Policy; Department of Defense Instruction (DoDI) 1235.12, Accessing the Reserve Components (RC); DoDI 1300.15, Military Funeral Support; DoDI 1300.18, Department of Defense (DoD) Personnel Casualty Matters, Policies, and Procedures; DoDI 1300.19, DoD Joint Officer Management (JOM) Program; DoDI 1304.30, Enlisted Personnel Management Plan (EPMP) Procedures; DoDI 1310.01, Rank and Seniority of Commissioned Officers; DoDI 1320.04, Military Officer Actions Requiring Presidential, Secretary of Defense, Or Under Secretary of Defense for Personnel and Readiness Approval or Senate Confirmation; DoDI 1320.14, Commissioned Officer Promotion Program Procedures; DoDI 1332.18, Disability Evaluation System (DES); DoDI 1332.35, Transition Assistance Program (TAP) for Military Personnel; DoDI 1336.05, Automated Extract of Active Duty Military Personnel Records; DoDI 1336.08, Military Human Resource Records Life Cycle Management; DoD 1352.01, Management of Regular and Reserve Retired Military Members; DoD 7000.14-R, Department of Defense Financial Management Regulation (DoD FMR); DoDI 7730.54, Reserve Components Common Personnel Data System (RCCPDS); Army Regulation (AR) 37-104-4, Military Pay and Allowances Policy; AR 55-46, Travel Overseas; AR 55-355, Military Traffic Management Regulation; AR 135-133, Ready Reserve Screening, Qualification Records System, and Change of Address Reporting; AR 135-155, Promotion of Commissioned Officers and Warrant Officers Other Than General Officers; AR 140-1, Mission, Organization, and Training; AR-140-9, Entry on Active Duty or Active Duty for Training (ROTC Officers); AR 140-10, Assignments, Attachments, Details, and Transfers; AR 140-50, Officer Candidate School, Army Reserve; AR 140-111, U.S. Army Reserve Reenlistment Program; AR 140-145, Individual Mobilization Augmentation Program; AR 600-8, Military Human Resources Management; AR 600-8-6, Personnel Accounting and Strength Reporting; AR 600-8-7, Retirement Services Program; AR 600-8-10; Leaves and Passes; AR 600-8-14, Identification Cards for Members of the Uniformed Services, their Family Members and Other Eligible Personnel; AR 600-8-19, Enlisted Promotions and Reductions; AR 600-8-22, Military Awards; AR 600-8-24, Officer Transfers and Discharges; AR 600-8-29, Officer Promotions; AR 600-37, Unfavorable Information; AR 600-43, Conscientious Objection; AR 600-81, Soldier for Life—Transition Assistance Program; AR 600-85, The Army Substance Abuse Program; AR 600-101, Personnel Processing (In-, Out-, Soldier Readiness, and Deployment Cycle); AR 600-8-104, Army Military Human Resource Records Management; AR 600-8-111, Wartime Replacement Operations; AR 601-10, Management and recall to Active Duty of retired Soldiers of the Army in Support of Mobilization and Peacetime Operations; AR 601-100, Appointment of Commissioned and Warrant Officers in the Regular Army; AR 601-210, Regular Army and Reserve Components Enlistment Program; AR 601-280, Army Retention Program; AR 608-18, The Family Advocacy Program; AR 608-75, Exceptional Family Member Program; AR 614-30, Overseas Service; AR 614-100, Officer Assignment Policies, Details, and Transfers; AR 614-200, Enlisted Assignments and Utilization Management; AR 621-5, Army Continuing Education System; AR 623-3, Evaluation Reporting System; AR 630-10, Absent Without Leave, Desertion, and Administration of Personnel Involved in Court Proceedings; AR 635-40, Disability Evaluation for Retention, Retirement, or Separation; AR 635-200, Active Duty Enlisted Separations; AR 638-2, Army Mortuary Affairs Program; AR 638-8, Army Casualty Program; AR 640-30, Official Army Photographs; AR 930-4, Army Emergency Relief; and Executive Order 9397 (SSN).

PURPOSE(S) OF THE SYSTEM:

The APS provides human resources capabilities in support of peacetime and wartime readiness requirements for the Army. The records in APS are created and maintained to manage the Soldier's career, administer benefits, historically document military service, and to safeguard the Soldier's rights while in service of the nation. Army leaders and commanders rely on APS information to make recommendations and document decisions pertaining to advancements, job classification, retention, assignments, recognition, disciplinary actions, and other personnel actions. The Army Human Resources Command and Army personnel offices at all echelons of command use the information in this system of records to manage all aspects of an individual's Army career to include: Accession, retention, job classification, benefits, duty assignments, deployments, career progression, performance evaluations, military training, separation or retirement, and military awards and decorations. Further, with implementation of the Military Pay Transition, APS will include management of Soldier's pay entitlements, allowances, and recording of indebtedness to the Federal government.

The Army will leverage the capabilities of the Integrated Personnel and Pay System-Army (IPPS-A) to perform most automated personnel functions. As the Army's enterprise information technology system for human resource management, IPPS-A will be the primary repository for APS data. IPPS-A provides a platform to streamline human resource business processes, assess manpower trends, administer readiness functions, and perform longitudinal statistical analyses necessary for force management. When fully implemented, IPPS-A will provide a secure, web-based integrated personnel and pay system to support the Army's peacetime and wartime readiness requirements.

CATEGORIES OF INDIVIDUALS COVERED BY THE SYSTEM:

All members of the United States Army to include: Active Army, National Guard, Reserve, Military Technicians (Title 5 and Title 32), U.S. Military Academy Cadets, and Army Reserve Officers' Training Corps contracted cadets, Officer Candidates, and Enlisted basic trainees; all former members of the United States Army who were separated by discharge, retirement, death, or other termination of military status.

CATEGORIES OF RECORDS IN THE SYSTEM:

Personally identifying data to include: Full name and other names used; Social Security Number (SSN) or individual tax payer identification number (ITIN); DoD Identification (DoD ID) number; gender; date and place of birth; race and ethnic origin; height, weight, eye color; blood type; official and identification photographs; government issued passport number; driver's license number; and Army Knowledge Online (AKO) login;

Other personal data to include: Marital status; citizenship and immigration status; religious preference; home and mobile telephone number; home and mailing address; state of permanent residence; personal email address; languages spoken; emergency contact information; and survivor beneficiary information (amounts of coverage; dates of beginning and ending eligibility);

Dependent family member data to include: Family members' full name and other names used; SSN or ITIN; DoD ID number; gender; date and place of birth; marital status; citizenship and immigration status; dependent eligibility and enrollment forms; government issued passport number; home, mobile and work telephone number; and home and work address. For spouses who are members of the uniformed services, military personnel data to include: Service, rank/grade; organization and unit of assignment; personnel category code; assignment preferences and duty status;

Duty and employment data to include: Pay grade and rank; military occupational specialty and skill qualification identifier; official duty title; security clearance level and investigation type; unit of assignment; duty phone number and address; military or civilian supervisor's name and contact information; official and AKO email addresses. Civil service occupational series, civilian pay plan, and grade for Military Technicians;

Military personnel data to include: Performance reports; promotion selection data; officer commissioning and appointment documents; warrant officer appointments; enlisted accession and reenlistment documents; job classification documentation; aptitude test results; skill and special qualifications; military service computation dates; duty assignment history and projections; duty command of assignment; effective date of duty assignment; deployment information; expiration of term of service; retirement and separation documentation; field/application for active duty; Guard and Reserve activations and retirement points; discharge and separation reviews; application for correction of military records; personnel and medical board determinations; background investigation data; moral and personnel waivers; special duty applications; enlistment bonus contracts; language/foreign language qualifications; benefits eligibility and enrollments; awards and decorations; adverse actions and misconduct determinations; Uniform Code of Military Justice (UCMJ) actions summarizing court martial; conscientious objector reports; Absent Without Leave (AWOL) and deserter reports; and other related personnel orders and military service information.

Education data to include: Civilian education information pertaining to education level, transcripts, professional certifications, and licenses. Military education information pertaining to courses attended, attendance dates and completion status, and special recognitions;

Medical readiness data to include: Casualty incident reports; physical health assessment data; physical profile qualification and limitations; physical fitness testing results; disability determinations; substance abuse referrals; and behavioral health profiles.

Pay and compensation data to include: Earnings and allowances; special pay and bonuses; travel authorizations and vouchers; payroll deductions; allotments; garnishments; indebtedness and tax levy documentation; savings bond information; Thrift Savings Plan (TSP) enrollment; payroll computations, payroll balances and history; direct deposit information (financial institution name, routing number, account number); leave requests and balances; and substantiating documents that establish, support, reduce, or cancel entitlements.

RECORD SOURCE CATEGORIES:

The individual; supervisors and commanders; third parties when information furnished relates to the individual's military service; the individual's Official Military Personnel File, military medical records, and other official Army records. Personnel, pay, and benefit data is also received from records maintained by DoD and Uniformed Service agencies to include: The Defense Manpower Data Center, Defense Finance and Accounting Service, Defense Health Agency, and Defense POW/MIA Accounting Agency. Information may also be provided by education and financial institutions, law enforcement agencies, the American Red Cross, the Office of Personnel Management, Department of Veteran Affairs, Department of Homeland Security, Department of Treasury, and other Federal, state and local agencies.

ROUTINE USES OF RECORDS MAINTAINED IN THE SYSTEM, INCLUDING CATEGORIES OF USERS AND PURPOSES OF SUCH USES:

In addition to those disclosures generally permitted under 5 U.S.C. Section 552a(b) of the Privacy Act of 1974, as amended, the records contained in this system may specifically be disclosed outside the DoD as a routine use pursuant to 5 U.S.C. Section 552a(b)(3) as follows:

a. To the Office of the President of the United States of America for the purpose of exchanging required information relating to White House Fellows, regular Army promotions, aides, and related support functions staffed by Army members.

b. To officials and employees of the Office of the Sergeant at Arms of the United States House of Representatives for the purpose of the performance of their official duties related to the verification of the active duty military service of Members of Congress. Access is limited to those portions of the member's record required to verify time in service.

c. To the Department of State for the purpose of documenting persona non grata status, attaché assignments, and related administration of personnel assigned and performing duty with the Department of State.

d. To the Bureau of Citizenship and Immigration Services, Department of Homeland Security, for the purposes of making alien admission and naturalization inquiries; and facilitating the verification of individuals who may be eligible for expedited naturalization (Pub. L. 108-136, Section 1701, and E.O. 13269, Expedited Naturalization).

e. To the Social Security Administration for the purpose of substantiating applicant's credit for social security compensation, to report earned wages by members for the Federal Insurance Contribution Act (FICA), accounting or tax audits, and death notices.

f. To the Department of Treasury for the purpose of providing information on check issues and electronic funds transfers.

g. To the Department of Treasury, Bureau of the Fiscal Service for the purpose of facilitating distribution of pay for personnel in trainee status using EZpay and to provide deployed personnel with the option to utilize EagleCash.

h. To the Internal Revenue Service for the purpose of reporting taxable earnings and taxes withheld, accounting, and tax audits, and to compute or resolve tax liability or tax levies.

i. To the National Finance Center, Office of Thrift Savings Plan (TSP), for the purpose of starting, changing, or stopping of contributions to the individual's TSP as well as how the individual wants the investments to be made in the various TSP Funds.

j. To State Agencies for the purpose of supporting State Veteran Affairs activities.

k. To the Social Security Administration, Office of Disability and Insurance Security Programs, for the purpose of expediting disability processing of wounded military service members and veterans.

l. To the Department of Labor for the purpose of determinining eligibility for unemployment compensation for former Service members who have applied for unemployment through state or territory government benefit offices.

m. To officials and employees of the Department of Health and Human Services for the purpose of the performance of their official duties related to eligibility, notification, and assistance in obtaining benefits for which members, former members, or retirees may be eligible.

n. To the Selective Service System for the purpose of facilitating compliance of members and former members of the Armed Forces, both active and reserve, with the provisions of the Selective Service registration regulations (50 U.S.C. Chapter 49).

o. To the American Red Cross for the purpose of providing emergency notification and financial relief to members of the Armed Forces, retirees, family members or survivors.

p. To military relief societies (Army Emergency Relief, Navy-Marine Corps Relief Society, Air Force Aid Society, and Coast Guard Mutual Assistance, Inc.) for the purpose of providing financial assistance and other relief-related services to military personnel and their dependents.

q. To consumer reporting agencies for the purpose of disclosures pursuant to 5 U.S.C. 552a(b)(12) as defined in the Fair Credit Reporting Act (15 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records. Disclosure is limited to information necessary to establish the identity of the individual, including name, address, and taxpayer identification number (Social Security Number); the amount, status, and history of the claim; and the agency or program under which the claim arose for the sole purpose of allowing the consumer reporting agency to prepare a commercial credit report.

r. To federal and state licensing authorities and civilian certification boards, committees and/or ecclesiastical endorsing organizations for the purposes of professional credentialing (licensing and certification) of lawyers, chaplains, health professionals, and other certifications identified by the Department of Defense.

s. To Federal agencies, their contractors and grantees, and to private organizations, such as the National Academy of Sciences, for the purposes of conducting personnel and/or health-related research in the interest of the Federal government and the public. When not considered mandatory, the names and other identifying data will be eliminated from records used for such research studies.

t. To the widow or widower, dependent, or next-of-kin of deceased members for the purpose of settling the affairs of the deceased member. The individuals will have to verify relationship by providing a birth certificate, marriage license, death certificate, or court document as requested/required to prove identity.

u. To contractors, grantees, experts, consultants, students, and others performing or working on a contract, service, grant, cooperative agreement, or other assignment for the federal government when necessary to accomplish an agency function related to this system of records.

v. To designated officers and employees of Federal, State, local, territorial or tribal, international, or foreign agencies maintaining civil, criminal, enforcement, or other pertinent information, such as current licenses, if necessary to obtain information relevant and necessary to a DoD Component decision concerning the hiring or retention of an employee, the issuance of a security clearance, the letting of a contract, or the issuance of a license, grant, or other benefit.

w. To designated officers and employees of Federal, State, local, territorial, tribal, international, or foreign agencies in connection with the hiring or retention of an employee, the conduct of a suitability or security investigation, the letting of a contract, or the issuance of a license, grant or other benefit by the requesting agency, to the extent that the information is relevant and necessary to the requesting agency's decision on the matter and the Department deems appropriate.

x. To contractors whose employees require suitability determinations, security clearances, and/or access to classified national security information, for the purpose of ensuring that the employer is appropriately informed about information that relates to and/or may impact a particular employee or employee applicant's suitability or eligibility to be granted a security clearance and/or access to classified national security information.

y. To a former DoD employee for the purpose of responding to an official inquiry by a Federal, State, local, territorial or tribal entity or professional licensing authority, in accordance with applicable DoD regulations; or for the purpose of facilitating communications with a former employee that may be necessary for personnel-related or other official purposes where the DoD requires information and/or consultation assistance from the former employee regarding a matter within that person's former area of responsibility.

z. To foreign or international law enforcement, security, or investigatory authorities to comply with requirements imposed by, or to claim rights conferred in, international agreements and arrangements, including those regulating the stationing and status in foreign countries of DoD military and civilian personnel.

aa. To State and local taxing authorities with which the Secretary of the Treasury has entered into agreements under 5 U.S.C. 5516, 5517, or 5520 and only to those state and local taxing authorities for which an employee or military member is or was subject to tax, regardless of whether tax is or was withheld. The information to be disclosed is information normally contained in Internal Revenue Service (IRS) Form W-2.

bb. To any person, organization or governmental entity (e.g., local governments, first responders, American Red Cross, etc.), in order to notify them of or respond to a serious and imminent terrorist or homeland security threat or natural or manmade disaster as is necessary and relevant for the purpose of guarding against or responding to such threat or disaster.

cc. To such recipients and under such circumstances and procedures as are mandated by Federal statute or treaty.

dd. To the appropriate Federal, State, local, territorial, tribal, foreign, or international law enforcement authority or other appropriate entity where a record, either alone or in conjunction with other information, indicates a violation or potential violation of law, whether criminal, civil, or regulatory in nature.

ee. To any component of the Department of Justice for the purpose of representing the DoD, or its components, officers, employees, or members in pending or potential litigation to which the record is pertinent.

ff. In an appropriate proceeding before a court, grand jury, or administrative or adjudicative body or official, when the DoD or other Agency representing the DoD determines that the records are relevant and necessary to the proceeding; or in an appropriate proceeding before an administrative or adjudicative body when the adjudicator determines the records to be relevant to the proceeding.

gg. To the National Archives and Records Administration for the purpose of records management inspections conducted under the authority of 44 U.S.C. 2904 and 2906.

hh. To a Member of Congress or staff acting upon the Member's behalf when the Member or staff requests the information on behalf of, and at the request of, the individual who is the subject of the record.

ii. To appropriate agencies, entities, and persons when (1) the DoD suspects or has confirmed that there has been a breach of the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

jj. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are maintained in paper and electronic storage media, in accordance with the safeguards as stated below.

POLICIES AND PRACTICES FOR RETRIEVAL OF RECORDS:

Records are retrieved primarily by use of the individual's name, SSN, DoD ID number, and/or date of birth.

POLICIES AND PRACTICES FOR RETENTION AND DISPOSAL OF RECORDS:

All records in the APS are maintained in accordance with Army records maintenance and disposition schedules and the requirements of the National Archives and Records Administration. The retention periods for information in this system of records varies from temporary to permanent.

Personnel-type orders are maintained by the Army office of records for two years, then transferred to the Washington National Records Center and destroyed after 54 years.

Approved military award case files that are related to wartime and/or combat activities are treated as permanent and offered to the National Archives and Records Administration 20 years after the close of the conflict to which they relate.

Military pay records, due to the Military Pay Transition, the disposition is pending until the National Archives and Records Administration has approved the retention and disposition schedule, treat as permanent. Individuals with pay dates prior to 1 January 2019 should refer to Defense Finance and Accounting Service system of records notices T7340, Defense Joint Military Pay System-Active Component and T7344, Defense Joint Military Pay System-Reserve Component.

Certain items not considered rights and interests records are maintained in the current filing area until no longer needed, but no longer than six years. Upon expiration, documents are purged and destroyed.

Certain items that evidences benefits or significant personnel actions are filed in the individual's Official Military Personnel Record for permanent retention (see Army system of records notice A0600-8-104b AHRC, Official Military Personnel Record).

Records are disposed of according to the provisions of 44 U.S.C., Chapter 33, Disposal of Records and DoD Manual 5200.01, Volume 4, DoD Information Security Program: Controlled Unclassified Information (CUI).

ADMINISTRATIVE, TECHNICAL, AND PHYSICAL SAFEGUARDS:

Paper and electronic records are protected in accordance with policies in DoD Manual 5200.01, Volume 4, DoD Information Security Program: Controlled Unclassified Information (CUI). Electronic records are also protected in accordance with policies in DoDI 8510.01, DoD Risk Management Framework (RMF) for DoD Information Technology (IT). Records are stored in secured buildings, physical access requires identification and is limited to individuals having an official requirement for entry. System data are encrypted, and access to data and data storage is controlled and limited to authorized personnel who are properly trained, screened, and cleared for need-to-know, and access is further restricted by requiring use of a Common Access Card and PIN and/or strong passwords that are changed periodically according to DoD and Army security policies.

In-depth physical, technical, and administrative controls have been established to safeguard electronic data. Users are required to successfully undergo and complete a National Agency Check with Inquiries along with a credit check. Role-based access to the system is managed by the HRC access control procedures and policies. All aspects of privacy, security, configuration, operations, data retention, and disposal are documented to ensure privacy and security are consistently enforced and maintained.

RECORDS ACCESS PROCEDURES:

Individuals seeking access to records about them contained in this system should contact their supporting military personnel division or address written inquiries to the commander of the organization to which the service member is assigned as follows:

For information on active duty, retired and non-unit reserve personnel contact the U.S. Army Human Resources Command, Attn: AHRC-PDR-H, 1600 Spearhead Division Avenue, Fort Knox, KY 40122-5500.

For information on reserve personnel assigned to Troop Program Units contact U.S. Army Reserve Command G-1, 4710 Knox Street, Fort Bragg, NC 28310-5010.

For information on Army National Guard personnel contact the National Guard Bureau, Army National Guard Readiness Center, 111 South George Mason Drive, Arlington, VA 22204-1382.

For information on General Officers contact the General Officer Management Office, Office of the Chief of Staff, Army, 200 Pentagon, Washington, DC 20310-0200.

For information on discharged and deceased personnel contact the National Personnel Records Center, 1 Archives Drive, St. Louis, MO 63138-1002.

Individuals should provide the full name, SSN, DoD ID number or service identification number if applicable, current address, telephone number, and signature.

In addition, the requester must provide a notarized statement or an unsworn declaration made in accordance with 28 U.S.C. 1746, in the following format:

If executed within the United States, its territories, possessions, or commonwealths: “I declare (or certify, verify, or state) under penalty of perjury that the foregoing is true and correct. Executed on (date). (Signature).”

If executed outside the United States: “I declare (or certify, verify, or state) under penalty of perjury under the laws of the United States of America that the foregoing is true and correct. Executed on (date). (Signature).”

CONTESTING RECORD PROCEDURES:

The Army's rules for accessing records, contesting contents, and appealing initial agency determinations are contained in 32 CFR part 310 or may be obtained from the system manager.

NOTIFICATION PROCEDURES:

Individuals seeking access to records about them contained in this system should contact their supporting military personnel division or address written inquiries to the commander of the organization to which the service member is assigned as follows:

For information on active duty, retired and non-unit reserve personnel, contact the U.S. Army Human Resources Command, Attn: AHRC-PDR-H, 1600 Spearhead Division Avenue, Fort Knox, KY 40122-5500.

For information on reserve personnel assigned to Troop Program Units contact U.S. Army Reserve Command G-1, 4710 Knox Street, Fort Bragg, NC 28310-5010.

For information on Army National Guard personnel contact the National Guard Bureau, Army National Guard Readiness Center, 111 South George Mason Drive, Arlington, VA 22204-1382.

For information on General Officers contact the General Officer Management Office, Office of the Chief of Staff, Army, 200 Pentagon, Washington, DC 20310-0200.

For information on discharged and deceased personnel contact the National Personnel Records Center, 1 Archives Drive, St. Louis, MO 63138-1002. Individuals should provide the full name, SSN, DoD ID number or service identification number if applicable, current address, telephone number, and signature.

In addition, the requester must provide a notarized statement or an unsworn declaration made in accordance with 28 U.S.C. 1746, in the following format:

If executed within the United States, its territories, possessions, or commonwealths: “I declare (or certify, verify, or state) under penalty of perjury that the foregoing is true and correct. Executed on (date). (Signature).”

If executed outside the United States: “I declare (or certify, verify, or state) under penalty of perjury under the laws of the United States of America that the foregoing is true and correct. Executed on (date). (Signature).”

EXEMPTIONS PROMULGATED FOR THE SYSTEM:

None.

HISTORY:

July 30, 2013, 78 FR 45914; January 6, 2004, 69 FR 790; December 8, 2000, 65 FR 77002; December 19, 1997, 62 FR 66606; February 22, 1993, 58 FR 10166.

[FR Doc. 2019-15242 Filed 7-17-19; 8:45 am]

BILLING CODE 5001-06-P